CONSUMER PRODUCT SAFETY COMMISSION

[Docket No. CPSC-2012-0058]

Agency Information Collection Activities; Submission for OMB Review; Comment Request—Safety Standard for Walk-Behind Power Lawn Mowers

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information relating to testing and recordkeeping requirements in the Safety Standard for Walk-Behind Power Lawn Mowers (16 CFR part 1205), approved previously under OMB Control No. 3041-0091. In the Federal Register of November 25, 2015 (80 FR 73735), the CPSC published a notice to announce the agency's intention to seek extension of approval of the collection of information.

One commenter, Outdoor Power Equipment Institute (“OPEI”) stated that the estimated burden is underestimated as it is likely based on an outdated estimate of the U.S. market. According to OPEI data, accounting for 8 member manufacturers, 4.7 million walk-behind (gas) power lawn mowers were shipped in the U.S. during 2015.

CPSC staff's estimate of the estimated reporting burden to industry to comply with the safety standard mainly is tied to the number of manufacturers and importers (25), number of production days in a year (130), and employee time per day per establishment required to conduct a reasonable testing program (3 hours) and preparation of product labels (1 hour). The information provided by OPEI's comment does not address the factors and assumptions leading to estimated burden hours for firms and the industry. The reported shipments of 4.7 million units in 2015 (by 8 OPEI members) would not lead us to conclude that estimated burden hours has been underestimated. In fact, the reported shipments in 2015 are lower than previous years in our possession (e.g., 6.5 million forecast for 2005). If OPEI has information related to the number of affected establishments, annual production days, and hours per production day required for testing and labeling, staff will review that information and revise the estimated information collection burden of the standard, as necessary.

Accordingly, by publication of this notice, the Commission announces that CPSC has submitted to the OMB a request for extension of approval of that collection of information, without change.

DATES: Written comments on this request for extension of approval of information collection requirements should be submitted by March 24, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0058.

FOR FURTHER INFORMATION CONTACT: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standard for Walk-Behind Power Lawn Mowers.

OMB Number: 3041-0091.

Type of Review: Renewal of collection.

Frequency of Response: On occasion.

Affected Public: Manufacturers and importers of walk-behind power lawn mowers.

Estimated Number of Respondents: 25 manufacturers and importers of walk-behind power lawn mowers have been identified.

Estimated Time per Response: Walk-behind power lawn mowers are manufactured seasonally to meet demand. They are manufactured during an estimated 130 days out of the year. When they are manufactured, firms are required to test and maintain records of those tests. Three hours daily is estimated for testing and recordkeeping per firm totaling 390 hours per firm (3 hours × 130 days). In addition, to produce labels and apply labels on the newly manufactured lawn mowers, one hour daily is estimated for each firm during the production cycle for a total of 130 hours per firm (1 hour × 130 days).

Total Estimated Annual Burden: 9,750 hours on testing and recordkeeping (25 firms × 390 hours) and 3,250 hours for labeling (25 firms × 130 hours) for a total annual burden of 13,000 hours per year.

General Description of Collection: In 1979, the Commission issued the Safety Standard for Walk-Behind Power Lawn Mowers (16 CFR part 1205) to address blade contact injuries. Subpart B of the standard sets forth regulations prescribing requirements for a reasonable testing program to support certificates of compliance with the standard for walk-behind power lawn mowers. 16 CFR part 1205, subpart B.

In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program. The information collection is necessary because these regulations require manufacturers and importers to establish and maintain records to demonstrate compliance with the requirements for testing and labeling to support the certification of compliance.

Dated: February 18, 2016.
Todd A. Stevenson,
Secretary, Consumer Product Safety Commission.

[FR Doc. 2016-03700 Filed 2-22-16; 8:45 am]

BILLING CODE 6355-01-P